DEPARTMENT OF THE INTERIOR

Bureau of Land Management

20X.LLIDI02000.L71220000.FR0000.LVTFD2015100.241A.4500131504]

Notice of Availability for the Final Environmental Impact Statement for the Proposed Blackrock Land Exchange, Bannock and Power Counties, Idaho

AGENCY: Bureau of Land Management, Department of the Interior.

ACTION: Notice of Availability.

SUMMARY: In compliance with the National Environmental Policy Act of 1969 (NEPA), as amended, and the Federal Land Policy and Management Act of 1976 (FLPMA), as amended, the Bureau of Land Management (BLM) Pocatello Field Office, in Pocatello, Idaho, has prepared a Final Environmental Impact Statement (EIS) for the proposed Blackrock Land Exchange and by this notice is announcing its availability.

DATES: The BLM will not issue a final decision on the proposal for a minimum of 60 days after the date that the U.S. Environmental Protection Agency (EPA) publishes its Notice of Availability in the Federal Register.

ADDRESSES: The Final EIS is available on the BLM ePlanning project website at https://go.usa.gov/xEUuc. If you are unable to access the documents online and would like a paper copy, please contact the Project Lead identified below.

FOR FURTHER INFORMATION CONTACT: Bryce Anderson, Project Manager by telephone: 208-478-6353; address: 4350 S Cliffs Dr., Pocatello, ID 83204; or email: bdanderson@blm.gov. People who use a telecommunications device for the deaf (TDD) may call the Federal Relay Service (FRS) at 1-800-877-8339 to contact Mr. Anderson. The FRS is available 24 hours a day, 7 days a week, to leave a message or question with Mr. Anderson. You will receive a reply during normal business hours.

SUPPLEMENTARY INFORMATION: The BLM is the lead agency for the land exchange that was proposed in 2019. The Idaho Department of Environmental Quality (IDEQ), Idaho Governor's Office of Energy and Mineral Resources (OEMR), EPA, and Bureau of Indian Affairs (BIA) are Cooperating Agencies.

In 1994, the J.R. Simplot Company (Simplot) submitted a proposal to acquire 719 acres of Federal land managed by the BLM in exchange for 667 acres of non-Federal land. The Federal lands are adjacent to Simplot's Don Plant in Power and Bannock Counties, Idaho. The non-Federal lands are located in the Blackrock and Caddy Canyon areas in Bannock County approximately 5 miles east-southeast of Pocatello.

In 1998, pursuant to the Comprehensive Environmental Response Compensation and Liability Act, the Don Plant facilities and the surrounding area, known as the Eastern Michaud Flats (EMF), were designated as a Superfund Site, including a portion of the proposed Federal lands to be exchanged. The BLM prepared an Environmental Assessment (EA) to analyze the proposed land exchange and issued a Decision Record/Finding of No Significant Impact (DR/FONSI) on December 21, 2007. The Shoshone-Bannock Tribes litigated the decision in District Court. In May 2011, the Court granted the Tribes' motion and remanded the DR/FONSI to the BLM, ordering the agency to prepare an EIS.

The BLM's purpose is to evaluate the current land exchange proposal and the need is to respond to the proposal pursuant to FLPMA. The land exchange would result in improved resource management in an area containing crucial mule deer winter range and would secure permanent public access within a popular recreation area. Simplot's purpose for the proposed land exchange is to implement legally enforceable controls as directed by the EPA and IDEQ. To meet fluoride reduction requirements from a 2016 Consent Order with the IDEQ, Simplot has proposed construction of cooling ponds adjacent to the Don Plant, which would require the acquisition of adjacent Federal lands. Additionally, this acquisition would allow Simplot to maximize the operational life of its ongoing phosphate processing operations at the Don Plant by expanding gypsum stacks onto adjacent land.

The formal public scoping process for the EIS began on May 20, 2019, with publication of a Notice of Intent in the Federal Register, which initiated a 45-day public comment period. Key resource issues identified during scoping include: Air quality, cultural resources, fish and wildlife, hazardous and solid wastes, lands and realty, recreation, socioeconomics, environmental justice, tribal treaty rights, visual resources, and water resources. The Notice of Availability for the Draft EIS was published on December 20, 2019, initiating a 45-day public comment period. The public comments resulted in the addition of: (1) Information on radioactivity and radionuclides, (2) information on water quality in the Portneuf River, including contributions from upstream sources, especially phosphorous and arsenic, and (3) qualitative information describing how a complete liner failure could occur and general types of effects/impacts. The BLM has responded to substantive comments and made appropriate revisions to the Final EIS or explained why a comment did not warrant a change.

The Final EIS evaluates the Proposed Action and two action alternatives, in addition to a No Action Alternative. The Proposed Action is to exchange 719 acres of Federal land for 667 acres of non-Federal land.

Alternative A (Increased Non-Federal Land Acreage) includes the same area of Federal (719 acres) and non-Federal lands (667 acres) as the proposed action, with the addition of voluntary mitigation and donation parcels (A and B) proposed by Simplot. Parcel A is voluntary mitigation that includes an additional 160 acres of non-Federal land within Blackrock Canyon to mitigate the net loss of Federal acres in the proposed action. The acquired lands would be available to tribal members for aboriginal purposes and would improve existing public access to the Chinese Peak/Blackrock Trail system. Parcel B is a proposed donation consisting of approximately 950 acres within the Fort Hall Reservation that would be offered to the Secretary of the Interior, or to the Shoshone-Bannock Tribes.

Alternative B (Avoiding the West Canyon) was developed from comments received during scoping to adjust the boundary of the Federal lands to minimize impacts to cultural and tribal resources in the West Canyon area on the north side of Howard Mountain. The Federal lands that would be acquired by Simplot would be reconfigured to eliminate the West Canyon area from the land exchange. This alternative would involve exchanging 711 acres of Federal land for 667 acres of non-Federal land. This alternative also includes the voluntary mitigation and donation parcels (A and B). Simplot would donate $25,000 to the Shoshone-Bannock Tribes' Language Program as voluntary mitigation for the BLM's conveyance of a National Register of Historic Places (NRHP)-eligible site within the Federal land.

Under the No Action Alternative, the proposed land exchange would not be authorized.

The BLM selected Alternative B as the Preferred Alternative, because it adjusts the boundary of the Federal lands to minimize impacts to cultural resources, allows for a net gain of public lands, and makes additional lands available for tribal uses. The BLM will continue consultation with Native American Tribes on a government-to-government basis in accordance with Executive Order 13175 and other policies. The BLM will give tribal concerns due consideration, including impacts on Native American trust assets and potential impacts to cultural resources.

Authority: 40 CFR 1506.6, 40 CFR 1506.10.

John F. Ruhs,
BLM Idaho State Director.

[FR Doc. 2020-11365 Filed 5-26-20; 8:45 am]

BILLING CODE 4310-GG-P